DEPARTMENT OF COMMERCE

Foreign-Trade Zones Board

[S-17-2017]

Foreign-Trade Zone 280—Ada and Canyon Counties, Idaho; Application for Subzone; Orgill, Inc.; Post Falls, Idaho

An application has been submitted to the Foreign-Trade Zones Board (the Board) by the Southwest Idaho Manufacturers' Alliance, grantee of FTZ 280, requesting subzone status for the facility of Orgill, Inc. (Orgill), located in Post Falls, Idaho. The application was submitted pursuant to the provisions of the Foreign-Trade Zones Act, as amended (19 U.S.C. 81a-81u), and the regulations of the Board (15 CFR part 400). It was formally docketed on February 9, 2017.

The proposed subzone (31.13 acres) is located at 1881 West Seltice Way, Post Falls, Idaho. No authorization for production activity has been requested at this time. The proposed subzone would be subject to the existing activation limit of FTZ 280.

In accordance with the Board's regulations, Christopher Kemp of the FTZ Staff is designated examiner to review the application and make recommendations to the Executive Secretary.

Public comment is invited from interested parties. Submissions shall be addressed to the Board's Executive Secretary at the address below. The closing period for their receipt is March 27, 2017. Rebuttal comments in response to material submitted during the foregoing period may be submitted during the subsequent 15-day period to April 11, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: February 9, 2017.
Andrew McGilvray,
Executive Secretary.

[FR Doc. 2017-03074 Filed 2-14-17; 8:45 am]

BILLING CODE 3510-DS-P